NATIONAL SCIENCE FOUNDATION

Notice of Permit Applications Received Under the Antarctic Conservation Act of 1978

AGENCY: National Science Foundation.

ACTION: Notice of Permit Applications Received under the Antarctic Conservation Act of 1978.

SUMMARY: The National Science Foundation (NSF) is required to publish a notice of permit applications received to conduct activities regulated under the Antarctic Conservation Act of 1978.

DATES: Interested parties are invited to submit written data, comments, or views with respect to this permit application by July 19, 2012. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale at the above address or (703) 292-7420.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. NSF has published regulations under the Antarctic Conservation Act at Title 45 Part 670 of the Code of Federal Regulations. This is the required notice of permit applications received. The regulations establish such a permit system to designate Antarctic Specially Protected Areas.

The applications received are as follows:

1. Permit Application: 2013-008.

Applicant Celia Lang, Lockheed Martin IS&GS, Antarctic Support Contract, 7400 S. Tucson Way, Centennial, CO 80112-3938.

Activity for Which Permit is Requested

Take. The applicant plans to periodically “herd” native mammals and seabirds that enter aircraft runways, roads, and ice pier at McMurdo Station, or the pier or general station area at Palmer Station. The presence of these animals pose operation safety concerns as well as potential harm to the animals. The herding method uses non-lethal and humane techniques to cause as little disturbance as possible to the animals. The primary technique consists of personnel slowly approaching the animals with their airs outstretched to the sides, and continuing in the animal's direction until they have been moved approximately 20-30 feet from the operational area (e.g. runways, roads, etc.). Individuals tasked with herding the animals will be trained in the proper technique.

Location

McMurdo Station, Ross Island, and Palmer Station, Anvers Island.

Dates

July 9, 2012 to August 31, 2017.

2. Permit Application: 2013-009.

Applicant Kristin M. O'Brien, Institute of Arctic Biology, University of Alaska Fairbanks, P.O. Box 757000, Fairbanks, AK 99775-7000.

Activity for Which Permit is Requested

Enter Antarctic Specially Protected Areas. The applicant plans to fish using benthic trawls and fish traps/pots in the Antarctic Peninsula area for capturing Antarctic fishes to study their physiology and biochemistry. Benthic Otter trawling is restricted to areas with smooth bottom surfaces in order to avoid damaging the net. Only a few such areas have been identified during previous field seasons. These areas include regions SW of Low Island, Western Bransfield Strait (ASPA 152), off of the S. shore of Brabant Island, in the vicinity of Astrolabe Needle in Dallmann Bay (ASPA 153), the SE. shore of Livingston Island, and a more distant area off the S. shore of Elephant Island.

Location

SW of Low Island, Western Bransfield Strait (ASPA 152), off of the S. shore of Brabant Island, in the vicinity of Astrolabe Needle in Dallmann Bay (ASPA 153), the SE. shore of Livingston Island, and a more distant area off the S. shore of Elephant Island.

Dates

April 1, 2013 to July 1, 2013.

Nadene G. Kennedy,
Permit Officer, Office of Polar Programs.

[FR Doc. 2012-14838 Filed 6-18-12; 8:45 am]

BILLING CODE 7555-01-P